DEPARTMENT OF ENERGY

Federal Energy Regulatory Commission

[Docket No. RP04-110-000]

El Paso Natural Gas Company; Notice of Tariff Filing

December 24, 2003.

Take notice that on December 16, 2003, El Paso Natural Gas Company (El Paso) tendered for filing as part of its FERC Gas Tariff, Second Revised Volume No. 1-A, the following tariff sheets, to become effective February 13, 2004:

Eleventh Revised Sheet No. 202B

First Revised Original Sheet No. 287A

Original Sheet No. 287B

Fourth Revised Sheet No. 288

First Revised Sheet No. 288A

Second Revised Sheet No. 353

First Revised Original Sheet No. 353A

El Paso states that these tariff sheets are filed to establish procedures for re-designating primary point rights under a transportation service agreement.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Linda Mitry,
Acting Secretary.

[FR Doc. E3-00679 Filed 12-31-03; 8:45 am]

BILLING CODE 6717-01-P